DEPARTMENT OF TRANSPORTATION

Environmental Impact Statement: Mobile County, Alabama

AGENCY: Federal Highway Administrative (FHWA), DoT.

SUMMARY: The FHWA is issuing this notice to advise the public that an environmental impact statement will be prepared for a proposed highway project in Mobile County, Alabama.

FOR FURTHER INFORMATION CONTACT: Mr. Joe Wilkerson, Division Administrator, Federal Highway Administration, 500 Eastern Boulevard, Suite 200, Montgomery, Alabama 36117-2018. Telephone: (334) 223-7370.

SUPPLEMENTARY INFORMATION: The FHWA, in cooperation with the Alabama Department of Transportation will prepare an environmental impact statement (EIS) for a proposal to construct a “loop” around the western side of Mobile from I-10 southwest of the City of Mobile to I-65 north of Mobile. The project would involve the construction of a new multi-lane facility built to “interstate” standards and specifications.

The project is considered necessary to provide for the existing and projected traffic demand. Alternatives under consideration include (1) taking no action (2) using alternative travel modes (3) alternative alignments and (4) various design alternatives. Letters describing the proposed action and soliciting comments will be sent to appropriate Federal, State, and local agencies, and to private organizations and citizens who have previously expressed or are known to have interest in this proposal. A series of public meetings will be held throughout the planning process. In addition, a public hearing will be held. Public notice will be given of the time and place of the meetings and hearing. The Draft EIS will be available for public and agency review and comment prior to the public hearing. A scoping meeting will be held with agencies interested in the project. To ensure that the full range of issues related to this proposed action are addressed and all significant issues identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program.)

Issued on: August 2, 2002.
Joe Wilkerson,
Division Administrator, Montgomery, Alabama.

[FR Doc. 02-21962 Filed 8-27-02; 8:45 am]

BILLING CODE 4910-22-M